GENERAL SERVICES ADMINISTRATION

[FMR Bulletin C-2024-01]

Guidelines for Safety Station Programs in Federal Facilities; Correction

AGENCY: Department of Health and Human Services and General Services Administration.

ACTION: Notice; correction.

SUMMARY: The General Services Administration published a document in the Federal Register of December 22, 2023, concerning a Federal Management Regulation (FMR) bulletin titled “Guidelines for Safety Station Programs in Federal Facilities.”

FOR FURTHER INFORMATION CONTACT: For further clarification of content, contact Christopher Coneeney, Supervisory Realty Specialist, Office of Government-wide Policy, U.S. General Services Administration, 1800 F Street NW, Washington, DC 20405; at 202-208-2956; or chris.coneeney@gsa.gov.

SUPPLEMENTARY INFORMATION:

Correction

In the Federal Register of December 22, 2023, in FR Doc. 2023-28207, on page 88620, in the first column, add a sentence after the last paragraph to read as follows:

For further information, please read FMR Bulletin C-2024-01, Guidelines for Safety Station Programs in Federal Facilities, available at https://www.gsa.gov/policy-regulations/regulations/federal-management-regulation/fmr-and-related-files#RealPropertyManagement.

Krystal J. Brumfield,
Associate Administrator, Office of Government-wide Policy, U.S. General Services Administration.
Rachel L. Levine,
Assistant Secretary for Health, U.S. Department of Health and Human Services.

[FR Doc. 2024-01668 Filed 1-26-24; 8:45 am]

BILLING CODE 6820-14-P